DEPARTMENT OF HOMELAND SECURITY

[Docket No. DHS-0002-2005]

Directorate of Science and Technology; Notice of Meeting of Homeland Security Science and Technology Advisory Committee

AGENCY: Office of the Under Secretary for Science and Technology, DHS.

ACTION: Notice.

SUMMARY: The Homeland Security Science and Technology Advisory Committee (HSSTAC) will meet in closed session.

DATES: February 23, 2005, and February 24, 2005.

ADDRESS: The offices of Booz Allen Hamilton, Virginia Square Plaza, 3811 Fairfax Drive, Arlington, VA 22203.

FOR FURTHER INFORMATION CONTACT: Brenda Leckey, Homeland Security Science and Technology Advisory Committee, Department of Homeland Security, Directorate of Science and Technology, Washington, DC 20528; telephone 202-254-5041; e-mail HSSTAC@dhs.gov.

SUPPLEMENTARY INFORMATION: Notice of this meeting is given under the Federal Advisory Committee Act (FACA), Pub. L. 92-463, as amended (5 U.S.C. App.2 et seq.). The HSSTAC will meet for purposes of: (1) Conducting annual administrative sessions (ethics and security briefings); (2) receiving detailed briefings on future Department and Directorate priorities; (3) identifying special issues that HSSTAC should pursue in 2005; (4) identifying special challenges (and resulting responses by) as well as major changes or initiatives facing the Directorate and its operating units for the coming year; (5) receiving subcommittee updates; and (6) receiving briefings on activities, programs, and accomplishments of the Office of Research & Development, the Homeland Security Advanced Projects Research Agency, and the Office of Systems Engineering and Development. In accordance with section 10(d) of the Federal Advisory Committee Act, Pub. L. 92-463, as amended (5 U.S.C. App. 2 et seq.), the Under Secretary for Science and Technology has determined that this HSSTAC meeting will concern matters which, if prematurely disclosed, would significantly frustrate implementation of proposed agency actions. Moreover, the administrative portions of the meeting will relate solely to the internal personnel rules and practices of the agency. Accordingly, pursuant to 5 U.S.C. 552b(c)(2) and (9)(B), the meeting will be closed to the public.

Public Comments: You may submit comments, identified by DHS-0002-2005, by one of the following methods:

• EPA Federal Partner EDOCKET Web Site: http://www.epa.gov/feddocket. Follow instructions for submitting comments on the Web site.

The Department of Homeland Security has joined the Environmental Protection Agency (EPA) online public docket and comment system on its Partner Electronic Docket System (Partner EDOCKET). The Department of Homeland Security and its agencies (excluding the United States Coast Guard and Transportation Security Administration) will use the EPA Federal Partner EDOCKET system. The USCG and TSA (legacy Department of Transportation (DOT) agencies) will continue to use the DOT Docket Management System until full migration to the electronic rulemaking federal docket management system in 2005.

• Federal eRulemaking Portal: http://www.regulations.gov. Follow the instructions for submitting comments.

• E-mail: hsstac@dhs.gov. Include DHS-0002-2005 in the subject line of the message.

• Fax: 202-254-6177.

• Mail: Homeland Security Science and Technology Advisory Committee, Department of Homeland Security, Washington, DC 20528.

Instructions: All submissions received must include the agency name and docket number for this rulemaking. All comments received will be posted without change to http://www.epa.gov/feddocket, including any personal information provided.

Docket: For access to the docket to read background documents or comments received, go to http://www.epa.gov/feddocket.

Dated: January 21, 2005.
Charles E. McQueary,
Under Secretary for Science and Technology.

[FR Doc. 05-1726 Filed 1-28-05; 8:45 am]

BILLING CODE 4410-10-P